DEPARTMENT OF COMMERCE

International Trade Administration

Manufacturing Council

AGENCY: International Trade Administration, U.S. Department of Commerce.

ACTION: Notice of Extension of the Application Period for Membership on the Manufacturing Council.

SUMMARY: On September 14, 2012, the Department of Commerce's International Trade Administration (ITA) published a notice in the Federal Register (77 FR 56811) soliciting applications for appointment of 25 members of the Manufacturing Council (Council) for a two-year term to begin in fall 2012. The September 14, 2012 notice provided that all applications must be received by the Office of Advisory Committees of the Department of Commerce by close of business on November 2, 2012. This notice extends the application period in order to provide the public with an additional opportunity to submit applications. The eligibility and evaluation criteria contained in the September 14, 2012 notice shall continue to apply. The purpose of the Council is to advise the Secretary of Commerce on matters relating to the competitiveness of the U.S. manufacturing sector and to provide a forum for regular communication between Government and the manufacturing sector.

ADDRESSES: Please submit application information via email to oacie@trade.gov or by mail to Jennifer Pilat, Office of Advisory Committees, Manufacturing Council Executive Secretariat, U.S. Department of Commerce, Room 4043, 1401 Constitution Avenue NW., Washington, DC 20230.

DATES: All applications for immediate consideration for appointment must be received by the Office of Advisory Committees by close of business on Tuesday, November 27, 2012. After that date, ITA will continue to accept applications under this notice for a period of up to two years from the deadline to fill any vacancies that may arise.

FOR FURTHER INFORMATION CONTACT: Jennifer Pilat, Manufacturing Council Executive Secretariat, Room 4043, 1401 Constitution Avenue NW., Washington, DC 20230, telephone: 202-482-4501, email: jennifer.pilat@trade.gov.

Please visit the Manufacturing Council Web site at: http://www.manufacturing.gov/council/index.asp?dName=council.

SUPPLEMENTARY INFORMATION: The Office of Advisory Committees is extending the application deadline for the appointment of 25 members of the Council for a two-year term to begin fall 2012. The Council was rechartered most recently on April 5, 2012.

The criteria and procedures for selecting the members contained in the September 14, 2012 notice continue to apply and are republished herein for convenience.

Members will be selected in accordance with applicable Department of Commerce guidelines based on his or her ability to advise the Secretary of Commerce on matters relating to the U.S. manufacturing sector, to act as a liaison among the stakeholders represented by the membership, and to provide a forum for those stakeholders on current and emerging issues in the manufacturing sector. In assessing this ability, the Department will consider such factors as, but not limited to, the candidate's proven experience in promoting, developing and marketing programs in support of manufacturing industries, job creation in the manufacturing sector, or the candidate's proven abilities to manage manufacturing organizations. Given the duties and objectives of the Council, the Department particularly seeks applicants who are active manufacturing executives (Chief Executive Officer, President, or a comparable level of responsibility) that are leaders within their local manufacturing communities and industry sectors. The Council's membership shall reflect the diversity of American manufacturing by representing a balanced cross-section of the U.S. manufacturing industry in terms of industry sectors, geographic locations, demographics, and company size, particularly seeking the representation of small- and medium-sized enterprises.

During the 2012-2014 charter term of the Manufacturing Council, the Assistant Secretary of Commerce for Manufacturing and Services intends to establish a new Economic Security Commission Subcommittee. The purpose of this subcommittee will be to examine factors that impact the long-term strategic challenges faced by the manufacturing sector in the United States. As indicated below, applicants are encouraged to highlight in their submissions any interest in and experience relevant to the work of this subcommittee.

The Secretary of Commerce appoints all Council members. All Council members serve at the discretion of the Secretary of Commerce. Council members shall serve in a representative capacity, representing the views and interests of a U.S. entity in the manufacturing industry and its particular sector. For the purposes of eligibility, a U.S. entity is defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities.

As noted above, Council members serve in a representative capacity, expressing the views and interests of a U.S. entity; they are, therefore, not Special Government Employees. Council members receive no compensation for their participation in Council activities. Members participating in Council meetings and events are responsible for their travel, living and other personal expenses. Meetings are held regularly and not less than annually, usually in Washington, DC. Members are required to attend a majority of the Council's meetings.

To be considered for membership, please provide the following:

1. Name and title of the individual requesting consideration.

2. A sponsor letter from the applicant on his or her entity's letterhead or, if the applicant is to represent an entity other than his or her employer, a letter from the entity to be represented, containing a brief statement of why the applicant should be considered for membership on the Council. This sponsor letter should also address the applicant's manufacturing-related experience, including any manufacturing trade policy experience.

3. The applicant's personal resume.

4. An affirmative statement that the applicant meets all eligibility criteria.

5. An affirmative statement that the applicant is not required to register as a foreign agent under the Foreign Agents Registration Act of 1938, as amended.

6. An affirmative statement that the applicant is not a federally registered lobbyist, and that the applicant understands that, if appointed, the applicant will not be allowed to continue to serve as a Council member if the applicant becomes a federally registered lobbyist.

7. Information regarding the control of the entity to be represented, including the governing structure and stock holdings, as appropriate, demonstrating compliance with the criteria set forth above.

8. The entity's size, place of incorporation or principal place of business, ownership, product or service line and major markets in which the entity operates.

9. Please include all relevant contact information such as mailing address, fax, email, phone number, and support staff information where relevant.

10. Please indicate if the applicant has an interest in serving on the Economic Security Commission subcommittee, if appointed, and highlight any experience relevant to the work of the subcommittee.

Dated: November 15, 2012.
Elizabeth Emanuel,
Executive Secretary, Manufacturing Council.

[FR Doc. 2012-28235 Filed 11-20-12; 8:45 am]

BILLING CODE 3510-DR-P